DEPARTMENT OF VETERANS AFFAIRS

Privacy Act of 1974; System of Records

AGENCY: Department of Veterans Affairs (VA), Veterans Health Administration (VHA).

ACTION: Notice of a new system of records.

SUMMARY: The Privacy Act of 1974 requires that all agencies publish in the Federal Register a notice of the existence and character of their systems of records. Notice is hereby given that the Department of Veterans Affairs (VA) is establishing a new system of records entitled, “Caregiver Support Program—Caregiver Record Management Application (CARMA)—VA” (197VA10) formerly included and described in the “Enrollment and Eligibility Records-VA” (147VA10NF1) last amended in the Federal Register on July 14, 2016.

DATES: Comments on this new system of records must be received no later than May 10, 2021. If no public comment is received during the period allowed for comment or unless otherwise published in the Federal Register by VA, the new system of records will become effective a minimum of 30 days after date of publication in the Federal Register. If VA receives public comments, VA shall review the comments to determine whether any changes to the notice are necessary.

ADDRESSES: Comments may be submitted through www.Regulations.gov or mailed to VA Privacy Service, 810 Vermont Avenue NW, (005R1A), Washington, DC 20420. Comments should indicate that they are submitted in response to “Caregiver Support Program—Caregiver Record Management Application (CARMA)—VA” (197VA10). Comments received will be available at regulations.gov for public viewing, inspection or copies.

FOR FURTHER INFORMATION CONTACT: Stephania Griffin, Veterans Health Administration (VHA) Privacy Officer, Department of Veterans Affairs, 810 Vermont Avenue NW, Washington, DC 20420; telephone (704) 245-2492 (Note: Not a toll-free number).

SUPPLEMENTARY INFORMATION:

I. Description of Proposed Systems of Records

Information in this system of records is used to establish and maintain records of individuals applying for, participating in, and those who have previously applied for or participated in the Program of Comprehensive Assistance for Family Caregivers (PCAFC), as well as individuals interested in participating, those who have previously participated in the Program of General Caregiver Support Services (PGCSS), and callers to the Caregiver Support Line (CSL). Information is maintained in the Caregiver Record Management Application (CARMA). CARMA is a workflow management system that supports the administration and oversight of the PCAFC, PGCSS and CSL to include documentation of the PCAFC application workflow, tracking of initial and ongoing eligibility for PCAFC and PGCSS, ongoing assessment and monitoring, automation of the PCAFC stipend payment process, and supports needs/record of calls to the VA's CSL. This system of records will also be used for data matching with other VA and external systems to support initial and continued eligibility determinations for services available through PGCSS and PCAFC. This matching includes CARMA direct or indirect interface with multiple systems to provide comprehensive matching of key data and resources to include (but not limited to) the Enrollment System, Identity Access Management, Incarceration data/data matching with state and Federal Agencies (via Veterans Benefit Administration), My HealtheVet, VA.Gov, Beneficiary Travel, VHA Corporate Data Warehouse, VBA Corporate Warehouse, and other similar interfaces/matches with systems to support initial and continued eligibility determination for services.

Public Law 111-163, the Caregivers and Veterans Omnibus Health Services Act of 2010, established 38 U.S.C. 1720G, directed VA to establish a Program of Comprehensive Assistance for Family Caregivers of eligible Veterans, and a Program of General Caregiver Support Services for caregivers of Veterans who are enrolled in the health care system established under 38 U.S.C. 1705(a) (including caregivers who do not reside with such Veterans). These two programs are collectively referred to as the Caregiver Support Program (CSP). Caregivers of Veterans participating in these programs are eligible to receive certain benefits. Caregivers of eligible Veterans participating in the PGCSS are eligible for Education, Training and Technical Support to include the use of telehealth, respite care and counseling. Through PCAFC, Family Caregivers have access to these same services and also may receive enhanced respite care, mental health care, and travel, lodging, and subsistence (to attend required caregiver training and Veteran medical appointments). In addition, PCAFC provides designated primary family caregivers of eligible Veterans with a monthly stipend payment and access to health care services through the Civilian Health and Medical Program of the Department of Veterans Affairs (CHAMPVA) for those not entitled to care of services under a health plan contract. VA has also established a Caregiver Support Line based in Canandaigua, NY to provide resources and referrals to callers regarding caregiver supports. Callers to the CSL include caregivers of Veterans, Veterans, and those with an interest in supporting Veterans and caregivers.

VA MISSION Act of 2018 amended 38 U.S.C. 1720G by expanding eligibility for PCAFC, establishing new benefits for designated Primary Family Caregivers of eligible Veterans, and making other changes affecting program eligibility and VA's evaluation of PCAFC applications. Section 162 directs VA to implement an information technology system that fully supports the Program and allows for data assessment and comprehensive monitoring. This technology system is the Caregiver Record Management Application, otherwise known as CARMA.

II. Proposed Routine Use Disclosures of Data in the System

We are proposing to establish the following Routine Use disclosures of information maintained in the system.

1. VA may disclose information from this system of records relevant to a claim of a Veteran or beneficiary, such as the name, address, the basis and nature of a claim, amount of benefit payment information, medical information, and military service and active duty separation information, at the request of the claimant to accredited service organizations, VA-approved claim agents, and attorneys acting under a declaration of representation, so that these individuals can aid claimants in the preparation, presentation, and prosecution of claims under the laws administered by VA. The name and address of a claimant will not, however, be disclosed to these individuals under this routine use if the claimant has not requested the assistance of an accredited service organization, claims agent or an attorney.

VA must be able to disclose this information to accredited service organizations, VA-approved claim agents, and attorneys representing Veterans so they can assist Veterans by preparing, presenting, and prosecuting claims under the laws administered by VA.

2. VA may disclose any information in this system, except the names and home addresses of Veterans and their dependents, which is relevant to a suspected or reasonably imminent violation of law, whether civil, criminal or regulatory in nature and whether arising by general or program statute or by regulation, rule or order issued pursuant thereto, to a Federal, state, local, tribal, or foreign agency charged with the responsibility of investigating or prosecuting such violation, or charged with enforcing or implementing the statute, regulation, rule or order. VA may also disclose the names and addresses of Veterans and their dependents to a Federal agency charged with the responsibility of investigating or prosecuting civil, criminal or regulatory violations of law, or charged with enforcing or implementing the statute, regulation, rule or order issued pursuant thereto.

VA must be able to provide information that pertains to a violation of laws to law enforcement authorities in order for them to investigate and enforce those laws. Under 38 U.S.C. 5701(a) and (f), VA may disclose the names and addresses of Veterans and their dependents to Federal entities with law enforcement responsibilities. This is distinct from the authority to disclose records in response to a qualifying request from a law enforcement entity, as authorized by Privacy Act subsection 5 U.S.C. 552a(b)(7).

3. VA may disclose information from this system of records in the course of presenting evidence to a court, magistrate, or administrative tribunal; in matters of guardianship, inquests, and commitments; to private attorneys representing Veterans rated incompetent in conjunction with issuance of Certificates of Incompetency; and to probation and parole officers in connection with court-required duties.

4. VA may disclose information to a fiduciary or guardian ad litem in relation to his or her representation of a claimant in any legal proceeding, but only to the extent necessary to fulfill the duties of the fiduciary or the guardian ad litem.

This disclosure permits VA to provide individual information to an appointed VA Federal fiduciary or to the individual's guardian ad litem that is needed to fulfill appointed duties.

5. VA may disclose any relevant information from this system of records to attorneys, insurance companies, employers, third parties liable or potentially liable under health plan contracts, and to courts, boards, or commissions, but only to the extent necessary to aid VA in the preparation, presentation, and prosecution of claims authorized under Federal, state, or local laws, and regulations promulgated thereunder.

VA must be able to furnish information to attorneys, insurance companies, employers, and to courts, boards, or commissions where the disclosure is necessary to provide aid to VA in the preparation, presentation, and prosecution of claims of Veterans and their beneficiaries.

6. VA may disclose information from this system of records to the Department of Justice (DoJ), either on VA's initiative or in response to DoJ's request for the information, after either VA or DoJ determines that such information is relevant to DoJ's representation of the United States or any of its components in legal proceedings before a court or adjudicative body, provided that, in each case, the agency also determines prior to disclosure that release of the records to the DoJ is limited to circumstances where relevant and necessary to the litigation. VA may disclose records in this system of records in legal proceedings before a court or administrative body after determining that release of the records to the DoJ is limited to circumstances where relevant and necessary to the litigation.

To determine whether to disclose records under this routine use, VA will comply with the guidance promulgated by the Office of Management and Budget in a May 24, 1985, memorandum entitled “Privacy Act Guidance—Update,” currently posted at https://www.whitehouse.gove/sites/whitehouse.gov/files/omb/assets/OMB/inforeg/guidance1985.pdf.

VA must be able to provide information to DoJ in litigation where the United States or any of its components is involved or has an interest. A determination would be made in each instance that under the circumstances involved, the purpose is compatible with the purpose for which VA collected the information. This routine use is distinct from the authority to disclose records in response to a court order under subsection (b)(11) of the Privacy Act, 5 U.S.C. 552(b)(11), or any other provision of subsection (b), in accordance with the court's analysis in Doe v. DiGenova, 779 F.2d 74, 78-85 (D.C. Cir. 1985) and Doe v. Stephens, 851 F.2d 1457, 1465-67 (D.C. Cir. 1988).

7. VA may disclose information from this system to National Archives and Records Administration (NARA) in records management inspections conducted under Title 44 U.S.C.

8. VA may disclose the name of a Veteran or beneficiary, other information as is reasonably necessary to identify such individual, and any other information concerning the individual's indebtedness by virtue of a person's participation in any benefits program administered by VA, may be disclosed to the Department of Treasury, Internal Revenue Service, for the collection of Title 38 benefit overpayments, overdue indebtedness, and/or costs of services provided to an individual not entitled to such services, by the withholding of al or portion of the person's Federal income tax refund. The purpose of this disclosure is to collect a debt owed the VA by an individual by offset of his or her Federal income tax refund.

9. VA may disclose the name and address of a Veteran or beneficiary, and other information as is reasonably necessary to identify such individual or concerning that individual's indebtedness to the United States by virtue of the person's participation in a benefits program administered by Department, to a consumer reporting agency for the purpose of locating the individual, obtaining a consumer report to determine the ability of the individual to repay an indebtedness to the United States, or assisting in the collection of such indebtedness, provided that the provisions of 38 U.S.C. 57019(g)(2) and (4) have been met.

The purpose of this information disclosure to a consumer-reporting agency is to assist VA in locating an individual, obtaining a consumer report to determine his or her ability to repay indebtedness, and to collect indebtedness.

10. VA may disclose information from this system of records to individuals, organizations, private or public agencies, or other entities or individuals with whom VA has a contract or agreement to perform such services as VA may deem practicable for the purposes of laws administered by VA, in order for the contractor, subcontractor, public or private agency, or other entity or individual with whom VA has a contract or agreement to perform services under the contract or agreement.

This routine use includes disclosures by the individual or entity performing services for VA to any secondary entity or individual to perform an activity that is necessary for individuals, organizations, private or public agencies, or other entities or individuals with whom VA has a contract or agreement to provide the service to VA.

This routine use, which also applies to agreements that do not qualify as contracts defined by Federal procurement laws and regulations, is consistent with OMB guidance in OMB Circular A-130, App. I, paragraph 5a(1)(b) that agencies promulgate routine uses to address disclosure of Privacy Act-protected information to contractors in order to perform the services contracts for the agency.

11. VA may disclose information from the record of an individual in response to an inquiry from the congressional office made at the request of that individual.

VA must be able to provide information about individuals to adequately respond to inquiries from Members of Congress at the request of constituents who have sought their assistance.

12. Disclosure to other Federal agencies may be made to assist such agencies in preventing and detecting possible fraud or abuse by individuals in their operations and programs.

This routine use permits disclosures by the Department to report a suspected incident of identity theft and provide information and/or documentation related to or in support of the reported incident.

13. VA may disclose information from this system to appropriate agencies, entities, and persons when (1) VA suspects or has confirmed that there has been a breach of the system of records; (2) VA has determined that as a result of the suspected or confirmed breach there is a risk of harm to individuals, VA (including its information systems, programs, and operations), the Federal Government, or national security; and (3) the disclosure made to such agencies, entities, and persons is reasonably necessary to assist in connection with VA's efforts to respond to the suspected or confirmed breach or to prevent, minimize, or remedy such harm.

14. VA may disclose identifying information, including social security number, concerning Veterans, spouses of Veterans, and the beneficiaries of Veterans to other Federal agencies for the purpose of conducting computer matches to obtain information to determine or verify eligibility of Veterans receiving VA medical care under Title 38 U.S.C.

OPP may disclose limited individual identification information to another Federal agency for the purpose of matching and acquiring information held by that agency for OPP to use for the purposes stated for this system of records.

15. Data breach response and remedial efforts with another Federal agency: VA may disclose information from this system to another Federal agency or Federal entity, when VA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

III. Compatibility of the Proposed Routine Uses

The Privacy Act permits VA to disclose information about individuals without their consent for a routine use when the information will be used for a purpose that is compatible with the purpose for which VA collected the information. In all of the routine use disclosures described above, either the recipient of the information will use the information in connection with a matter relating to one of VA's programs, to provide a benefit to VA, or to disclose information as required by law.

Under section 264, Subtitle F of Title II of the Health Insurance Portability and Accountability Act of 1996 (HIPAA) Public Law 104-191, 110 Stat. 1936, 2033-34 (1996), the United States Department of Health and Human Services (HHS) published a final rule, as amended, establishing Standards for Privacy of Individually-Identifiable health Information, 45 CFR parts 160 and 164. VHA may not disclose individually identifiable health information (as defined in HIPAA and the Privacy Rule, 42 U.S.C. 1320(d)(6) and 45 CFR 164.501) pursuant to a routine use unless either: (a) The disclosure is required by law, or (b) the disclosure is also permitted or required by HHS' Privacy Rule. The disclosures of individually-identifiable health information contemplated in the routine uses published in this new system of records notice are permitted under the Privacy Rule or required by law. However, to also have authority to make such disclosures under the Privacy Act, VA must publish these routine uses. Consequently, VA is publishing these routine uses to the routine uses portion of the system of records notice stating that any disclosure pursuant to the routine uses in this system of records notice must be either required by law or permitted by the Privacy Rule, before VHA may disclose the covered information.

The notice of intent to publish and an advance copy of the system notice have been sent to the appropriate Congressional committees and to the Director, Office of Management and Budget, as required by 5 U.S.C. 552a(r) (Privacy Act) and guidelines issued by OMB (65 FR 77677), December 12, 2000.

Signing Authority

The Senior Agency Official for Privacy, or designee, approved this document and authorized the undersigned to sign and submit the document to the Office of the Federal Register for publication electronically as an official document of the Department of Veterans Affairs. Dominic A. Cussatt, Acting Assistant Secretary of Information and Technology and Chief Information Officer, approved this document on March 2, 2021 for publication.

Dated: April 6, 2021.
Amy L. Rose,
Program Analyst, VA Privacy Service, Office of Information Security, Office of Information and Technology, Department of Veterans Affairs.

SYSTEM NAME AND NUMBER:

“Caregiver Support Program—Caregiver Record Management Application (CARMA)—VA” (197VA10)

SECURITY CLASSIFICATION:

Unclassified.

SYSTEM LOCATION:

The Caregiver Record Management Application (CARMA) system is hosted in the Salesforce Gov Cloud. The Salesforce's corporate address is 1 Market Street #300, San Francisco, CA 94105.

SYSTEM MANAGER(S):

Official responsible for policies and procedures: Deputy Chief Officer Patient Care Services Officer (10P4C), 810 Vermont Avenue NW, Washington, DC 20420. Telephone number (202) 461-1635 (Note: This is not a toll-free number).

AUTHORITY FOR MAINTENANCE OF THE SYSTEM:

MISSION Act of 2018 and Improper Payments Elimination and Recovery Act (IPERIA).

PURPOSE(S) OF THE SYSTEM:

Information in this system of records is used to administer, monitor and track services delivered through VA's Caregiver Support Program including documentation of calls to the Caregiver Support Line. The CARMA workflow management system is being used for Social Security number matching and other data field requirements. In addition, information in this system of records is used to respond to Congressional and/or internal and external stakeholders on the performance of the VA Caregiver Support Program.

CATEGORIES OF INDIVIDUALS COVERED BY THE SYSTEM:

The records include Veterans and caregivers inquiring about, applying for, participating in and those who have previously applied for or participated in the Program of Comprehensive Assistance for Family Caregivers (PCAFC) or the Program of General Caregiver Support Services (PGCSS) established by the Caregivers and Veterans Omnibus Health Services Act of 2010, Public Law 111-163, as well as individuals who contact VA's Caregiver Support Line, Veterans, their spouses and dependents as provided for in other provisions of title 38 U.S.C.

CATEGORIES OF RECORDS IN THE SYSTEM:

Information entered into the Caregiver Support Program web-based application includes, but is not limited to: The Veteran and caregiver(s) name, Social Security number, gender, age, date of birth, address, phone number, and email address; VA eligibility related information, such as service connection, DD 214, “Certification of Release or Discharge from Active Duty”, Line of Duty documentation, stipend payment information; written correspondence; VA Form 10-10CG, “Application for Comprehensive Assistance for Family Caregiver Program”; and correspondence with Caregiver Support Line, including referral information and VA staff remarks. The Caregiver Support Program uses data stored in CARMA which includes, but is not limited to: Social Security number, eligibility, correspondence, documented and captured telephone calls with Veterans, Caregivers, and the general public.

RECORD SOURCE CATEGORIES:

Information in the systems of records may be provided by the applicant; applicant's spouse or other family members or accredited representatives or friends; Veterans, caregivers, and other interested parties seeking or receiving information or services about VA's Caregiver Support Program, including the Caregiver Support Line, VA systems including but not limited to Veterans Health Information System and Technology Architecture (VistA), Master Person Index, VHA Corporate Data Warehouse, Enrollment System, VBA, and other state and Federal agencies.

ROUTINE USES OF RECORDS MAINTAINED IN THE SYSTEM, INCLUDING CATEGORIES OF USERS AND THE PURPOSES OF SUCH USES:

To the extent that records contained in the system include information protected by 45 CFR parts 160 and 164, i.e., individually identifiable health information, and 38 U.S.C. 7332, i.e., medical treatment information related to drug abuse, alcoholism or alcohol abuse, sickle cell anemia, or infection with the Human Immunodeficiency Virus, that information cannot be disclosed under a routine use unless there is also specific statutory authority in 38 U.S.C. 7332 and regulatory authority in 45 CFR parts 160 and 164 permitting disclosure.

1. VA may disclose information from this system of records relevant to a claim of a Veteran or beneficiary, such as the name, address, the basis and nature of a claim, amount of benefit payment information, medical information, and military service and active duty separation information, at the request of the claimant to accredited service organizations, VA-approved claim agents, and attorneys acting under a declaration of representation, so that these individuals can aid claimants in the preparation, presentation, and prosecution of claims under the laws administered by VA. The name and address of a claimant will not, however, be disclosed to these individuals under this routine use if the claimant has not requested the assistance of an accredited service organization, claims agent or an attorney.

2. VA may disclose any information in this system, except the names and home addresses of Veterans and their dependents, which is relevant to a suspected or reasonably imminent violation of law, whether civil, criminal or regulatory in nature and whether arising by general or program statute or by regulation, rule or order issued pursuant thereto, to a Federal, state, local, tribal, or foreign agency charged with the responsibility of investigating or prosecuting such violation, or charged with enforcing or implementing the statute, regulation, rule or order. VA may also disclose the names and addresses of Veterans and their dependents to a Federal agency charged with the responsibility of investigating or prosecuting civil, criminal or regulatory violations of law, or charged with enforcing or implementing the statute, regulation, rule or order issued pursuant thereto.

3. VA may disclose information from this system of records in the course of presenting evidence to a court, magistrate, or administrative tribunal; in matters of guardianship, inquests, and commitments; to private attorneys representing Veterans rated incompetent in conjunction with issuance of Certificates of Incompetency; and to probation and parole officers in connection with court-required duties.

4. VA may disclose information to a fiduciary or guardian ad litem in relation to his or her representation of a claimant in any legal proceeding, but only to the extent necessary to fulfill the duties of the fiduciary or the guardian ad litem.

5. Attorneys, Insurers, Employers: VA may disclose any relevant information from this system of records to attorneys, insurance companies, employers, third parties liable or potentially liable under health plan contracts, and to courts, boards, or commissions, but only to the extent necessary to aid VA in the preparation, presentation, and prosecution of claims authorized under Federal, state, or local laws, and regulations promulgated thereunder.

6. VA may disclose information from this system of records to the Department of Justice (DoJ), either on VA's initiative or in response to DoJ's request for the information, after either VA or DoJ determines that such information is relevant to DoJ's representation of the United States or any of its components in legal proceedings before a court or adjudicative body, provided that, in each case, the agency also determines prior to disclosure that release of the records to the DoJ is limited to circumstances where relevant and necessary to the litigation. VA may disclose records in this system of records in legal proceedings before a court or administrative body after determining that release of the records to the DoJ is limited to circumstances where relevant and necessary to the litigation.

To determine whether to disclose records under this routine use, VA will comply with the guidance promulgated by the Office of Management and Budget in a May 24, 1985, memorandum entitled “Privacy Act Guidance—Update,” currently posted at https://www.whitehouse.gove/sites/whitehouse.gov/files/omb/assets/OMB/inforeg/guidance1985.pdf.

7. VA may disclose information from this system to NARA in records management inspections conducted under Title 44 U.S.C.

8. VA may disclose the name of a Veteran or beneficiary, other information as is reasonably necessary to identify such individual, and any other information concerning the individual's indebtedness by virtue of a person's participation in a benefits program administered by VA, may be disclosed to the Department of Treasury, Internal Revenue Service, for the collection of Title 38 benefit overpayments, overdue indebtedness, and/or costs of services provided to an individual not entitled to such services, by the withholding of al or portion of the person's Federal income tax refund.

9. VA may disclose the name and address of a Veteran or beneficiary, and other information as is reasonably necessary to identify such individual or concerning that individual's indebtedness to the United States by virtue of the person's participation in a benefits program administered by Department, to a consumer reporting agency for the purpose of locating the individual, obtaining a consumer report to determine the ability of the individual to repay an indebtedness to the United States, or assisting in the collection of such indebtedness, provided that the provisions of 38 U.S.C. 57019(g)(2) and (4) have been met.

10. VA may disclose information from this system of records to individuals, organizations, private or public agencies, or other entities or individuals with whom VA has a contract or agreement to perform such services as VA may deem practicable for the purposes of laws administered by VA, in order for the contractor, subcontractor, public or private agency, or other entity or individual with whom VA has a contract or agreement to perform services under the contract or agreement.

This routine use includes disclosures by the individual or entity performing services for VA to any secondary entity or individual to perform an activity that is necessary for individuals, organizations, private or public agencies, or other entities or individuals with whom VA has a contract or agreement to provide the service to VA.

11. VA may disclose information from the record of an individual in response to an inquiry from the congressional office made at the request of that individual.

12. Disclosure to other Federal agencies may be made to assist such agencies in preventing and detecting possible fraud or abuse by individuals in their operations and programs.

13. VA may disclose information from this system to appropriate agencies, entities, and persons when (1) VA suspects or has confirmed that there has been a breach of the system of records; (2) VA has determined that as a result of the suspected or confirmed breach there is a risk of harm to individuals, VA (including its information systems, programs, and operations), the Federal Government, or national security; and (3) the disclosure made to such agencies, entities, and persons is reasonably necessary to assist in connection with VA's efforts to respond to the suspected or confirmed breach or to prevent, minimize, or remedy such harm.

14. VA may disclose identifying information, including social security number, concerning Veterans, spouses of Veterans, and the beneficiaries of Veterans to other Federal agencies for the purpose of conducting computer matches to obtain information to determine or verify eligibility of Veterans receiving VA medical care under Title 38 U.S.C.

15. VA may disclose information from this system to another Federal agency or Federal entity, when VA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

The CARMA system is hosted in the Salesforce Gov Cloud. The production environment (including application data) is backed up weekly to the VA's Amazon Cloud (AWS).

POLICIES AND PRACTICES FOR RETRIEVABILITY OF RECORDS:

Records are retrieved by name, and/or Social Security number, internal control number (ICN), correspondence tracking number, internal record number, facility number, or other assigned identifiers of the individuals on whom they are maintained.

POLICIES AND PRACTICES FOR RETENTION AND DISPOSAL OF RECORDS:

CARMA records are currently unscheduled and should not be destroyed.

PHYSICAL, PROCEDURAL, AND ADMINISTRATIVE SAFEGUARDS:

1. On an annual basis, employees are required to sign a computer access agreement acknowledging their understanding of confidentiality requirements. In addition, all employees receive annual privacy awareness and information security training.

2. Access to electronic records is deactivated when no longer required for official duties. Recurring monitors are in place to ensure compliance with nationally and locally established security measures.

3. Strict control measures are enforced to ensure that access to and disclosure from all records are limited to VA and the contractor's employees whose official duties warrant access to those files.

4. Access to CARMA is restricted and requires approval prior to access. Restricted access will be provided to enable workflow management to administer, monitor and track services delivered through VA's Caregiver Support Program including, but not limited to, documentation of calls to the Caregiver Support Line.

RECORD ACCESS PROCEDURE:

Individuals seeking information regarding access to and contesting of CARMA records should submit a written request in person to the nearest VA facility.

CONTESTING RECORD PROCEDURES:

(See Record Access Procedures above.)

NOTIFICATION PROCEDURE:

Any individual who wishes to determine whether a record is being maintained in this system under his or her name or other personal identifier, or wants to determine the contents of such record, should submit a written request or apply in person to the nearest VA. All inquiries must reasonably identify the records requested. Inquiries should include the individual's full name, Social Security number, military service number, claim folder number, and return address.

EXEMPTIONS PROMULGATED FOR THE SYSTEM:

None.

HISTORY:

None.

[FR Doc. 2021-07310 Filed 4-8-21; 8:45 am]

BILLING CODE P